DEPARTMENT OF ENERGY

Federal Energy Regulatory Commission

[Project No. 15318-001]

Cabin Run Pumped Storage, LLC; Notice of Surrender of Preliminary Permit

Take notice that Cabin Run Pumped Storage, LLC, permittee for the proposed Cabin Run Pumped Storage Project No. 15318, has requested that its preliminary permit be terminated. The permit was issued on April 25, 2024, and would have expired on March 31, 2028.¹ The project would have been located near the Stony River and the unincorporated community of Bismarck in Tucker and Grant Counties, West Virginia.

¹ Cabin Run Pumped Storage, LLC, 187 FERC ¶ 61,036 (2024).

The preliminary permit for Project No. 15318 will remain in effect until the close of business, thirty days from the date of this notice. But, if the Commission is closed on this day, then the permit remains in effect until the close of business on the next day in which the Commission is open.² New applications for this site may not be submitted until after the permit surrender is effective.

² 18 CFR 385.2007(a)(2) (2025).

(Authority: 18 CFR 2.1)

Dated: December 8, 2025.
Debbie-Anne A. Reese,
Secretary.

[FR Doc. 2025-22547 Filed 12-10-25; 8:45 am]

BILLING CODE 6717-01-P